DEPARTMENT OF COMMERCE

International Trade Administration

[A-570-930]

Circular Welded Austenitic Stainless Pressure Pipe From the People's Republic of China: Final Results of Antidumping Duty Administrative Review

AGENCY: Import Administration, International Trade Administration, Department of Commerce.

SUMMARY: On March 31, 2011, the Department of Commerce (“Department”) published the Preliminary Results of the first administrative review of the antidumping duty order on circular welded austenitic stainless pressure pipe from the People's Republic of China (“PRC”).¹ In the Preliminary Results, the Department determined a de minimis weighted-average margin for the sole respondent during the period of review (“POR”). The Department gave interested parties an opportunity to comment on the Preliminary Results. After considering interested parties' comments, the Department has made no changes to the Preliminary Results. Therefore, the Department continues to find that sales have not been made below normal value (“NV”) by the respondent in the final results of this administrative review. The final de minimis weighted-average margin is listed below in the “Final Results of the Review” section of this notice. The POR is September 5, 2008 through February 28, 2010.

¹ See Circular Welded Austenitic Stainless Pressure Pipe From the People's Republic of China: Preliminary Results of Antidumping Duty Administrative Review, 76 FR 17819 (March 31, 2011) (“Preliminary Results”).

DATES: Effective Date: July 22, 2011.

FOR FURTHER INFORMATION CONTACT: Magd Zalok or Brandon Farlander, AD/CVD Operations, Office 4, Import Administration, International Trade Administration, Department of Commerce, 14th Street and Constitution Avenue, NW., Washington, DC 20230; telephone: (202) 482-4162 or (202) 482-0182, respectively.

Case History

On March 31, 2011, the Department published the Preliminary Results of this administrative review. On May 2, 2011, the Department received a case brief from domestic interested parties,² and, on May 9, 2011, the Department received a rebuttal brief from Zhejiang Jiuli Hi-Tech Metals Co., Ltd. (“Jiuli TC”) and Huzhou Jiuli Welded Stainless Steel Pipe Co., Ltd. (“Jiuli SD Co.”), the collapsed respondent in this administrative review.

² Specifically, Bristol Metals LLC, Felker Brothers Corporation, Marcegaglia U.S.A. Inc., and Outokumpu Stainless Products.

Analysis of Comments Received

All issues raised in the case and rebuttal briefs by parties are addressed in the “Circular Welded Austenitic Stainless Pressure Pipe from the People's Republic of China: Issues and Decision Memorandum for the Final Results of the First Antidumping Duty Administrative Review,” dated concurrently with this notice (“I&D Memorandum”), which is hereby adopted by this notice. A list of the issues which parties raised, and to which the Department has responded in the I&D Memorandum, is attached to this notice as an Appendix. The I&D Memorandum is a public document and is on file in the Central Records Unit (“CRU”), Main Commerce Building, Room 7046, and is accessible on the Department's Web site at http://ia.ita.doc.gov/frn. The paper copy and electronic version of the memorandum are identical in content.

Changes Since the Preliminary Results

As indicated above, the Department made no changes to the Preliminary Results margin calculation in the final results of this administrative review. For further details on the issues raised by interested parties and the Department's positions on such issues, please see the I&D Memorandum.

Scope of the Order

The merchandise covered by the order is circular welded austenitic stainless pressure pipe not greater than 14 inches in outside diameter. This merchandise includes, but is not limited to, the American Society for Testing and Materials (“ASTM”) A-312 or ASTM A-778 specifications, or comparable domestic or foreign specifications. ASTM A-358 products are only included when they are produced to meet ASTM A-312 or ASTM A-778 specifications, or comparable domestic or foreign specifications. Excluded from the scope are: (1) Welded stainless mechanical tubing, meeting ASTMA-554 or comparable domestic or foreign specifications; (2) boiler, heat exchanger, superheater, refining furnace, feedwater heater, and condenser tubing, meeting ASTM A-249, ASTM A-688 or comparable domestic or foreign specifications; and (3) specialized tubing, meeting ASTM A-269, ASTM A-270 or comparable domestic or foreign specifications.

The subject imports are normally classified in subheadings 7306.40.5005; 7306.40.5040; 7306.40.5062; 7306.40.5064; and 7306.40.5085 of the Harmonized Tariff Schedule of the United States (“HTSUS”). They may also enter under HTSUS subheadings 7306.40.1010; 7306.40.1015; 7306.40.5042; 7306.40.5044; 7306.40.5080; and 7306.40.5090. The HTSUS subheadings are provided for convenience and customs purposes only, the written description of the scope of the order is dispositive.

Affiliation and Collapsing

In the Preliminary Results, the Department found that Jiuli TC and Jiuli SD Co. are affiliated pursuant to section 771(33)(E) of the Tariff Act of 1930 (as amended) (the “Act”). Additionally, pursuant to 19 CFR 351.401(f)(1) and (2), the Department found that the totality of the record evidence supported collapsing Jiuli TC and Jiuli SD Co. into a single entity. Accordingly, the Department based its margin calculation on record information pertaining to Jiuli TC and Jiuli SD Co. For further discussion on the Department's preliminary decision to collapse Jiuli TC with Jiuli SD Co., see Memorandum to Abdelali Elouaradia, Office Director, “Whether to Collapse Zhejiang Jiuli Hi-Tech Metals Co., Ltd. and Huzhou Jiuli Welded Stainless Steel Pipe Co., Ltd.”, dated March 25, 2011. Since the Preliminary Results, the Department received no comments regarding its finding that Jiuli TC and Jiuli SD Co. are a single entity. Accordingly, the Department has continued to treat these two affiliated companies as a single entity for purposes of the final results of this administrative review.

Non-Market Economy Treatment

The Department considers the PRC to be a non-market economy (“NME”) country.³ In accordance with section 771(18)(C)(i) of the Act, any determination that a foreign country is an NME country shall remain in effect until revoked by the administering authority. No party has challenged the designation of the PRC as an NME country in this review. Therefore, the Department continues to treat the PRC as an NME country for purposes of the final results of this administrative review.

³ See, e.g., Preliminary Determination of Sales at Less Than Fair Value and Postponement of Final Determination: Coated Free Sheet Paper from the People's Republic of China, 72 FR 30758, 30760 (June 4, 2007), unchanged in Final Determination of Sales at Less Than Fair Value: Coated Free Sheet Paper from the People's Republic of China, 72 FR 60632 (October 25, 2007).

Surrogate Country

In the Preliminary Results, the Department selected India as the primary surrogate country for the following reasons: (1) It is a significant producer of comparable merchandise; (2) it is at a level of economic development similar to that of the PRC pursuant to section 773(c)(4) of the Act; and (3) the Department has reliable data from India that it can use to value the factors of production. No party submitted comments challenging the Department's selection of the primary surrogate country. Hence, the Department is continuing to use India as the primary surrogate country for the final results of this administrative review.

Separate Rates

In proceedings involving NME countries, the Department holds a rebuttable presumption that all companies within the country are subject to government control and, thus, should be assessed a single antidumping duty rate. It is the Department's policy to assign all exporters of subject merchandise in an NME country this single rate unless an exporter can demonstrate that it is sufficiently independent so as to be entitled to a separate rate.⁴ Based on the evidence placed on the record of this administrative review, the Department preliminarily found that Jiuli TC/Jiuli SD Co. met the criteria for separate rate status. See the Preliminary Results. Since the Preliminary Results, the Department received no comments challenging its finding that Jiuli TC/Jiuli SD Co. met the criteria for separate rate status. Accordingly, the Department continues to find that Jiuli TC/Jiuli SD Co. meets the criteria for separate rate status for purposes of the final results of this administrative review.

⁴ See Notice of Final Determination of Sales at Less Than Fair Value: Sparklers from the People's Republic of China, 56 FR 20588 (May 6, 1991), as further developed in Notice of Final Determination of Sales at Less Than Fair Value: Silicon Carbide from the People's Republic of China, 59 FR 22585 (May 2, 1994).

Final Results of the Review

The weighted-average dumping margin for the POR is as follows:

Exporter | Weighted average margin (percent)
Zhejiang Jiuli Hi-Tech Metals Co., Ltd./Huzhou Jiuli Welded Stainless Steel Pipe Co., Ltd | 0.01

Assessment Rates

The Department will determine, and U.S. Customs and Border Protection (“CBP”) shall assess, antidumping duties on all appropriate entries ⁵ of subject merchandise in accordance with the final results of this review. Pursuant to 19 CFR 351.212(b)(1), the Department will calculate importer-specific (or customer-specific) ad valorem duty assessment rates based on the ratio of the total amount of the dumping margins calculated for the examined sales to the total entered value of those same sales. In accordance with 19 CFR 351.106(c)(2), the Department will instruct CBP to liquidate, without regard to antidumping duties, all entries of subject merchandise during the POR for which the importer-specific assessment rate is zero or de minimis. The Department intends to issue assessment instructions to CBP 15 days after the date of publication of the final results of this review.

⁵ Appropriate entries would not include entries during the gap period. The gap period represents the period of time after the expiration of the 180-day provisional measures period during the original investigation, to the day prior to the U.S. International Trade Commission's final determination. In the instant case, the gap period is March 4, 2009, to March 16, 2009.

Cash Deposit Requirements

The following cash deposit requirements will be effective upon publication of these final results of administrative review for all shipments of the subject merchandise entered, or withdrawn from warehouse, for consumption on or after the publication date, as provided for by section 751(a)(2)(C) of the Act: (1) For the exporter listed above, the cash deposit rate will be the rate established in the final results of this review (except, if the rate is zero or de minimis, i.e., less than 0.5 percent, no cash deposit will be required for that company); (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 55.21 percent; and (4) for all non-PRC exporters of subject merchandise which have not received their own rate, the cash deposit rate will be the rate applicable to the PRC exporters that supplied that non-PRC exporter. These deposit requirements, when imposed, shall remain in effect until further notice.

Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

Administrative Protective Orders

This notice also serves as a reminder to parties subject to administrative protective order (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

Disclosure

The Department will disclose the calculations performed in these final results within five days of the date of public announcement of the final results to parties in this proceeding in accordance with 19 CFR 351.224(b).

The Department is issuing and publishing this administrative review and notice in accordance with sections 751(a)(1) and 777(i) of the Act.

Dated: July 14, 2011.
Ronald K. Lorentzen,
Deputy Assistant Secretary for Import Administration.

Appendix I—Issues & Decision Memorandum

Issues

Comment 1: The Reported Input Quantity of Steel.

Comment 2: The Reported Scrap Offset.

[FR Doc. 2011-18570 Filed 7-21-11; 8:45 am]

BILLING CODE 3510-DS-P